DEPARTMENT OF THE INTERIOR

Bureau of Land Management

[NM-932-1320-05; NMNM 99144]

Notice of Coal Lease Offering

AGENCY: Bureau of Land Management, Interior.

ACTION: Notice of competitive coal lease sale.

SUMMARY: Notice is hereby given that certain coal resources in the tract described below in San Juan County, New Mexico, will be offered for competitive lease by sealed bid in accordance with the provisions of the Mineral Leasing Act of 1920, as amended (30 U.S.C. 181 et seq.).

DATES: The lease sale will be held at 10:00 a.m., Wednesday, November 1, 2000. Sealed bids must be submitted on or before 9 a.m., on November 1, 2000.

ADDRESSES: The lease sale will be held in the BLM Conference Room, located at 1474 Rodeo Road, Santa Fe, NM 87505. Sealed bids must be submitted on or before 9 a.m. on November 1, 2000, to: Cashier, New Mexico State Office, P.O. Box 27115, Santa Fe, NM 87502-0115.

FOR FURTHER INFORMATION CONTACT: Ida T. Viarreal at (505) 438-7603.

SUPPLEMENTARY INFORMATION: The tract will be leased to the qualified bidder submitting the highest cash offer provided that the high bid meets or exceeds the fair market value of the tract as determined by the Authorized Officer after the sale. Each bid should be clearly identified by tract number or serial number on the outside of the envelope containing the bid. No bid that is less than $100.00 per acre, or fraction thereof, will be considered.

This $100.00 per acre is a regulatory minimum, and is not intended to reflect fair market value of the tract. Sealed bids clearly marked “Sealed Bid for NMNM 99144 Coal Sale—Not to be opened before 10 a.m. Wednesday, November 1, 2000,” must be received on or before 9 a.m., Wednesday, November 1, 2000. Bids should be sent by certified mail, return receipt requested, or should be hand delivered. The cashier will issue a receipt for each hand delivered sealed bid. Bids received after 9 a.m., on November 1, 2000, will not be considered. The fair market value of the tract will be determined by the Authorized Officer after the sale. If identical high sealed bids are received, the tying bidders will be requested to submit follow-up sealed bids until a high bid is received. All tie-breaking sealed bids must be within 15 minutes following the sale official's announcement at the sale that identical sealed bids have been received.

Coal Tract to be Offered: The coal resources to be offered consist of all recoverable reserves in the following described lands located in San Juan County, New Mexico and are described as follows:

T.30 N., R. 14 W., NMPM

Sec. 17, All;

Sec. 18, All;

Sec. 19, All;

Sec. 20, All;

Sec. 29, All;

Sec. 30, All;

Sec. 31, Lots 1-4, N½,N½S½.

Containing 4,483.88 acres, more or less.

The tract that is being offered for lease is comprised of seven sections of Bureau of Land Management Lands. The tract is subject to several prior valid and pre-existing surface and subsurface rights. These include, but are not limited to: (1) rights-of-way issued for large fluid transmission pipelines, electrical power transmission lines, water lines, roads, and other utilities, (2) surface grazing and water rights, (3) subsurface leases for oil and gas, which include all of the coal bed methane gas within the Fruitland coal, and associated oil and gas lease surface rights for storage, gathering lines, access roads, drilling pads, etc., and (4) existing producing and non-producing oil, gas and coal bed methane wells on the aforementioned leases. It shall be the responsibility of the successful coal bidder to determine just how any and all of the pre-existing rights will affect the mining operations. A list of the pre-existing surface and subsurface encumbrances by serial number and type that are currently a matter of public record can be obtained at the BLM New Mexico State Office.

The right to mine and remove coal from the tract is a subordinate right to any and all prior valid and pre-existing rights. If during any of the operations related to the mining of the coal it becomes necessary to infringe upon the prior rights, then any and all actions, and negotiations allowing adjustments, relinquishments, suspensions, etc., and the costs and compensations related thereto, shall be the sole responsibility of the successful coal bidder. Any conflicts between the successful bidder and the holders of oil and gas leases must be cleared by negotiations between the successful bidder and said oil and gas lesses(s). The Bureau of Land Management will not be a party to or have any involvement in any negotiations between any parties in regards to this tract.

Rental and Royalty: The lease issued as a result of this lease offering will require payment of an annual rental of $3.00 per acre or a fraction thereof, and a royalty payable to the United States of 12½ percent of the value of the coal removed by surface methods and 8 percent of the value of the coal removed by underground methods. The value of the coal will be determined in accordance with 30 CFR § 206.250.

Notice of Availability: Bidding instructions for the offered tract is included in the Detailed Statement of Coal Lease Sale. Copies of the Statement and the proposed coal lease are available upon request in person or by mail from the BLM New Mexico State Office at the addresses shown above. The case files are available for inspection during normal business hours only at the Santa Fe, New Mexico location.

Dated: September 27, 2000.
Carsten F. Goff,
Acting State Director.

[FR Doc. 00-25326 Filed 10-3-00; 8:45 am]

BILLING CODE 4310-84-M